FEDERAL COMMUNICATIONS COMMISSION

[DA 16-336]

Final Notice of Intent To Terminate Authorization of JuBe, Communications, LLC

AGENCY: Federal Communications Commission.

ACTION: Notice.

SUMMARY: In this document, the International Bureau affords JuBe Communications, LLC (JuBe) final notice and opportunity to respond to the December 23, 2015 letter submitted by the Department of Justice, with the concurrence of the Department of Homeland Security and the Federal Bureau of Investigation (collectively the “Executive Branch agencies”) requesting that the FCC terminate, and declare null and void and no longer in effect and/or revoke the international section 214 authorization issued to JuBe under file number ITC-214-20070607-00218.

DATES: Submit comments on or before May 4, 2016.

ADDRESSES: The Bureau is serving a copy on JuBe by certified mail, return receipt requested, at the last address of record appearing in Commission records. JuBe should send its response to Denise Coca, Chief, Telecommunications and Analysis Division, International Bureau via email at Denise.Coca@fcc.gov and to Cara Grayer, Telecommunications and Analysis Division, International Bureau at Cara.Grayer@fcc.gov and file it in File No. ITC-214-20070607-00218 via IBFS at http://licensing.fcc.gov/myibfs/pleading.do.

FOR FURTHER INFORMATION CONTACT: Cara Grayer, Telecommunications and Analysis Division, International Bureau, at (202) 418-2960 or Cara.Grayer@fcc.gov.

SUPPLEMENTARY INFORMATION: In the Executive Branch Dec. 23, 2015 Letter, the Executive Branch agencies state that they have reason to believe that JuBe may be dissolved and no longer providing service. As a result, the Executive Branch agencies indicate that JuBe is unable to comply with the commitments and undertakings contained in the July 12, 2007 Letter that JuBe entered into with the Executive Branch agencies to address national security and law enforcement concerns. Compliance with these commitments is a condition to the international Section 214 authorization the Commission issued to JuBe on July 27, 2007, and by this notice the Bureau provides final notice to JuBe that it intends to take action to declare JuBe's international 214 authorization terminated for failure to comply with conditions of its authorization, and further advises that it may refer the matter for enforcement action for non-compliance with the applicable regulatory provisions. On January 19, 2016, the Bureau's Telecommunications and Analysis Division sent a letter to JuBe at the last known addresses on record via certified, return receipt mail, asking JuBe to respond to the Executive Branch agencies' allegations by February 18, 2016. The January 19, 2016 letter stated that failure to respond would result in the issuance of an order to terminate JuBe's international Section 214 authorization. JuBe did not respond to the request.

In addition, the Communications Act of 1934, as amended (the Act) and the Commission's rules require authorization holders to comply with certain requirements that enable the Commission to contact and communicate with the authorization holder and verify whether the authorization holder is still providing service. JuBe appears to have failed to comply with those requirements. For example, every carrier must designate an agent for service and keep that information current. See 47 U.S.C. 413; 47 CFR 1.47(h), 64.1195. See also 47 CFR 63.19, 63.21(a), and 63.21(d).

JuBe's failure to respond to this Public Notice will be deemed as an admission of the facts alleged by the Executive Branch agencies and of the violation of the statutory and rule provisions set out above. The Bureau hereby provides final notice to JuBe that it intends to take action to declare JuBe's international 214 authorization terminated for failure to comply with conditions of its authorization, and further advises that it may refer the matter for enforcement action for non-compliance with the applicable regulatory provisions. JuBe must respond to this Public Notice no later than 15 days after publication in the Federal Register.

The proceeding in this Notice shall be treated as a “permit-but-disclose” proceeding in accordance with the Commission's ex parte rules.

Federal Communications Commission.
Denise Coca,
Chief, Telecommunications & Analysis Division, International Bureau.

[FR Doc. 2016-09006 Filed 4-18-16; 8:45 am]

BILLING CODE P